DEPARTMENT OF TRANSPORTATION

Office of the Secretary

[Docket OST-01-9718]

Application of Sum Air Services, Inc. d/b/a Paradise Air for Issuance of Commuter Air Carrier Authority

AGENCY: Department of Transportation.

ACTION: Notice of order to show cause (Order 2001-10-16)

SUMMARY: The Department of Transportation is directing all interested persons to show cause why it should not issue an order finding that Sum Air Services, Inc. d/b/a Paradise Air is fit, willing, and able, to provide commuter air carrier service using small aircraft under 49 U.S.C. 41738.

DATES: Persons wishing to file objections should do so no later than November 16, 2001.

ADDRESSES: Objections and answers to objections should be filed in Docket OST-01-9718 and addressed to Department of Transportation Dockets (SVC-124, Room PL-401), 400 Seventh Street, SW., Washington, DC 20590 and should be served upon the parties listed in Attachment A to the order.

FOR FURTHER INFORMATION CONTACT: Ms. Janet Davis, Air Carrier Fitness Division (X-56, Room 6401), U.S. Department of Transportation, 400 Seventh Street, SW., Washington, DC 20590, (202) 366-9721.

Dated: October 30, 2001.
Read C. Van De Water,
Assistant Secretary for Aviation and International Affairs.

[FR Doc. 01-27739 Filed 11-2-01; 8:45 am]

BILLING CODE 4910-62-P